DEPARTMENT OF TRANSPORTATION

Federal Highway Administration

[Docket No. FHWA-2024-0013]

Agency Information Collection Activities: Notice of Request for Extension of Currently Approved Information Collection

AGENCY: Federal Highway Administration (FHWA), DOT.

ACTION: Notice of request for extension of currently approved information collection.

SUMMARY: The FHWA has forwarded the information collection request described in this notice to the Office of Management and Budget (OMB) for an extension of an information collection. We are required to publish this notice in the Federal Register by the Paperwork Reduction Act of 1995.

DATES: Please submit comments by March 28, 2024.

ADDRESSES: You may submit comments identified by DOT Docket ID Number 0013 by any of the following methods:

Website: For access to the docket to read background documents or comments received go to the Federal eRulemaking Portal: Go to http://www.regulations.gov.

Follow the online instructions for submitting comments.

Fax: 1-202-493-2251.

Mail: Docket Management Facility, U.S. Department of Transportation, West Building Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

FOR FURTHER INFORMATION CONTACT: Miranda Sim, 202-366-0756 or Beatriz Hernandez, 202-366-3126, Office of Budget and Finance, Federal Highway Administration, Department of Transportation, 1200 New Jersey Avenue SE, Washington, DC 20590, between 7:30 a.m. to 4:30 p.m., Monday through Friday, except Federal holidays.

SUPPLEMENTARY INFORMATION: We published a Federal Register Notice with a 60-day public comment period on this information collection on December 26, 2023 (88 FR 89006).

Title: Funds Transfers to Other Agencies and Among Title 23 Programs.

OMB Control: 2125-0620.

Background: The Infrastructure Investment and Jobs Act (IIJA), Public Law 117-58, continues the ability of States to transfer highway funds to other States and agencies and among programs/projects. These authorities are codified in sections 104 and 126 of title 23, United States Code, as amended by the IIJA. Transferability under the IIJA is generally similar to that allowed under previous authorization acts such as the Fixing America's Surface Transportation (FAST) Act, Moving Ahead for Progress in the 21st Century Act (MAP-21), and the Safe, Accountable, Flexible, Efficient Transportation Equity Act: A Legacy for Users (SAFETEA-LU). This notice establishes requirements for initiating the transfer of apportioned funds (funds distributed among States and programs by statutory formula) to carry out these provisions of law. The types of transfers affected by this notice are:

a. Transfer of funds from a State to the FHWA pursuant to U.S.C. Title 23, § 104(f)(3).

b. Transfer of funds from a State to a Federal Agency other than FHWA.

c. Transfer of funds from a State to another State.

d. Transfer of funds from FHWA to Federal Transit Administration pursuant to 23 U.S.C. 104(f)(1).

e. Transfer of funds between programs pursuant to 23 U.S.C. 126; and,

f. Transfer of funds between projects.

The State initiating the fund transfer must fill out a FHWA Funds Transfer Request form. This form is either filled out manually via the currently approved paper-based transfer form (FHWA-1575C) or electronically via the FHWA Funds Control Module in the Fiscal Management Information System (FMIS). The information required in the FMIS Funds Control Module is equivalent to the information required in the paper-based transfer form and over ninety percent of the transfers are now required to be submitted electronically. These transfers are routed electronically after State DOT approval, from the State DOT to the FHWA Division Office; after Division Office concurrence, from the Division Office to the FHWA Budget Office; and finally, the FHWA Budget Office processes the request. Automating in the FMIS Funds Control Module allowed the transfer request process to be streamlined by incorporating system validations to limit errors and by automating the flow of the approval process. Information required to fill out a transfer form includes the requester's contact information; a description of the program/project the transfer will come from and go to, the fiscal year, the program code, a demo ID, or an urban area when applicable, and the amount to be transferred.

Respondents: 50 State Transportation Departments, the District of Columbia, and Puerto Rico.

Estimated Average Burden per Response: 15 minutes.

Estimated Total Annual Burden Hours: It is estimated that a total of 2,000 responses will be received annually, which would equal a total annual burden of 500 hours.

Public Comments Invited: You are asked to comment on any aspect of this information collection, including: (1) Whether the proposed collection is necessary for the FHWA's performance; (2) the accuracy of the estimated burdens; (3) ways for the FHWA to enhance the quality, usefulness, and clarity of the collected information; and (4) ways that the burden could be minimized, including the use of electronic technology, without reducing the quality of the collected information. The agency will summarize and/or include your comments in the request for OMB's clearance of this information collection.

Authority: The Paperwork Reduction Act of 1995; 44 U.S.C. chapter 35, as amended; and 49 CFR 1.48.

Issued on: February 22, 2024.
Jazmyne Lewis,
Information Collection Officer.

[FR Doc. 2024-03948 Filed 2-26-24; 8:45 am]

BILLING CODE 4910-22-P